FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

A. Royal Shipping Line Inc. dba American, Royal Shipping Line, 6800 N. Shepherd, Houston, TX 77091. Officer: Michael Bashir Sarakbi, Vice President (Qualifying Individual).

Whisky Shippers and Movers, Inc., 461 East 99th Street, Brooklyn, NY 11236. Officers: Karron McSween, President (Qualifying Individual), Gregory Modesto, Vice President.

Filipinas Cargo Express, 1601 Daisy Tree Lane, Ceres, CA 95307. Officers: Edgar Cruda, Managing Partner (Qualifying Individual), Rey Tagaloguin, President.

Caricom Shipping, Inc., 5107 North Point Blvd., Sparrows Point, MD 21219. Officers: Lavonne Warner, Secretary (Qualifying Individual), Ansel Hall, President.

Non-Vessel Operating Common Carrier and Ocean Freight Forwarder Transportation Intermediary Applicants

BTL Group, Inc. dba E-World Cargo Inc., 7910 South 3500 East Bldg. B, Salt Lake City, UT 84121. Officers: Frank J. Gonzalez, Vice President (Qualifying Individual), Bret Miller, President.

W Logistics LLC dba W World Logistics, 169 Parsonage Road, Edison, NJ 08837. Officer: Ravi Mayor, President (Qualifying Individual).

Trans-America Express, 2575 Pointe Coupee, Chino Hills, CA 91709, Officer: Sulan Zhang, President (Qualifying Individual).

UT Freight Forwarders Ltd., 161-15 Rockaway Blvd., Jamaica, NY 11434. Officers: Shawn Mak, Asst. Vice President (Qualifying Individual), John Hwang, President.

Power T International Inc., 9102 Westpark Drive, Houston, TX 77063. Officers: Richard Tsai, President (Qualifying Individual), Lina Tsai, Manager.

Wastaki Freight International Inc., 9820 Atlantic Drive, Miramar, FL 33025. Officers: Patrick Walters, President (Qualifying Individual), Faith Walters, Vice President.

Ocean Freight Forwarder—Ocean Transportation Intermediary Applicants

Caribou International Incorporated, 2334 Loyanne Drive, Spring, TX 77373. Officer: Brian John Mensi, President (Qualifying Individual).

Harbor Trading Company, 4200 Creekside Avenue, Toledo, OH 43612. Officers: Teresa J. Ervin, Asst. Vice President (Qualifying Individual), Michael J. Langenhurst, President.

Famex International Shipping Inc., 120 Sylvan Avenue, Suite 5, Englewood Cliffs, NJ 07632. Officers: Fadi Kabbara, President (Qualifying Individual), Rola Kabbara, Vice President.

CBS Marine LC, 4850 NE 5th Avenue, #119, Boca Raton, FL 33431. Officer: Vadims Tjutins, Director (Qualifying Individual).

Dated: February 20, 2004.
Bryant L. VanBrakle,
Secretary.

[FR Doc. 04-4202 Filed 2-24-04; 8:45 am]

BILLING CODE 6730-01-P